DEPARTMENT OF HOMELAND SECURITY

Coast Guard

33 CFR Part 100

[Docket Number USCG-2025-0586]

RIN 1625-AA08

Special Local Regulation; Galveston Channel, Galveston, TX

AGENCY: Coast Guard, DHS.

ACTION: Notice of proposed rulemaking.

SUMMARY: The Coast Guard is proposing to establish a special local regulation for the safety of life on certain waters of the Galveston Channel in Galveston County, TX. These regulations would be enforced during a boat parade which will be held annually, on the 3rd Saturday in September. This proposed rulemaking would prohibit entry of non-participants into the regulated area unless specifically authorized by the Captain of the Port, Sector Houston-Galveston (COTP) or designated representative. We invite your comments on this proposed rulemaking.

DATES: Comments and related material must be received by the Coast Guard on or before August 18, 2025.

ADDRESSES: You may submit comments identified by docket number USCG-2025-0586 using the Federal Docket Management System at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Ignacio J. Fernández-Cuervo, Marine Safety Unit Texas City, Waterways Management Division, U.S. Coast Guard; telephone (281) 309-1617, email MSUTexasCityWaterways@uscg.mil.

SUPPLEMENTARY INFORMATION:

I. Table of Abbreviations

CFR Code of Federal Regulations

COTP Captain of the Port, Sector Houston-Galveston

DHS Department of Homeland Security

FR Federal Register

NPRM Notice of proposed rulemaking

PATCOM Patrol Commander

§ Section

SLR Special Local Regulation

U.S.C. United States Code

II. Background, Purpose, and Legal Basis

Coast Guard regulations define “regatta or marine parade” as an organized water event of limited duration which is conducted according to a prearranged schedule. 33 CFR 100.05(a). And, as explained in 33 CFR 100.15, the Coast Guard requires that an organization planning to hold a regatta or marine event apply for a permit if the event, by its nature, circumstances, or location, will introduce extra or unusual hazards to the safety of life on the navigable waters of the United States. Upon the approval of an application, under 33 CFR 100.35(a), the COTP may promulgate such “Special Local Regulations” (SLR's) as he or she deems necessary to ensure safety of life on the navigable waters immediately prior to, during, and immediately after the event.

Texian Navy submitted a marine event permit application in 2024 for a boat parade, and the event was permitted by the Coast Guard with a temporary SLR created for the event (which expired after the event completion). Texian Navy submitted a new marine event permit application again in 2025 and expressed intent to submit applications annually to hold event on the same day (third Saturday in September). We are proposing to incorporate the SLR into a permanent rule for these recurring events (33 CFR 100.801). This rule would not expire, but it would only be subject to enforcement during periods when the events are taking place. The Coast Guard would supplement the rule each year, when an application for the current year's event is approved, with a Notification of Enforcement providing specific information about enforcement times.

The regulated area for the event consists of a pre-staging area along the east end of Seawolf Park, a designated spectator zone east of Galveston Yacht Marina along the ship channel and a Parade transit zone starting in the east end of the Galveston Channel through terminal 10 and back. Among the hazards the event poses include a risk of collisions between event participants operating within or adjacent to the navigation channel designated for the event, and non-participants traveling through the channel, or within approaches to local marinas, boat facilities, and waterfront residential communities. The COTP has determined that the potential hazards associated with the boat parade would be a safety concern for anyone intending to participate in this event, and for vessels that operate within specified waters of the Galveston Channel. The purpose of this rulemaking is to protect event participants, non-participants, and transiting vessels before, during, and after the scheduled event. The Coast Guard is proposing this rulemaking under the authority in 46 U.S.C. 70041.

The proposed enforcement periods and the size of the regulated area were chosen to ensure the safety of life on these navigable waters before, during, and after activities associated with the boat parade. As provided in 33 CFR 100.801, the Coast Guard would provide annual notice of the overall enforcement periods and periods of enforcement of particular zones within the regulated area in the Coast Guard Heartland District Local Notice to Mariners, and issue a marine information broadcast on VHF-FM marine band radio announcing specific event dates and times.

Consistent with 33 CFR 100.35(a), the COTP and the Coast Guard Event PATCOM would have authority to forbid or control the movement of all vessels and persons, including event participants, in the regulated area. When hailed or signaled by an official patrol, a vessel or person in the regulated area would be required to immediately comply with the directions given by the COTP or Event PATCOM, as is now provided in 33 CFR 100.501(d). If a person or vessel fails to follow such directions, the Coast Guard may expel them from the area, issue them a citation for failure to comply, or both.

III. Discussion of Proposed Rule

The COTP proposes to establish a special local regulation which may be subject to enforcement every year on the third Saturday in September. This proposed rule would modify 33 CFR 100.801 by listing a new recurring marine event in Table 3 of § 100.801, which covers the Coast Guard Sector Houston-Galveston COTP Zone. The Coast Guard is proposing this rulemaking under authority in 46 U.S.C. 70041.

The regulated area created by this rule would encompass three zones to include a Pre-Staging Zone, Spectator Zone, and Parade Transit Zone as described below:

Pre-Staging Zone: This area is the pre-staging area for participating vessels to line up. It will include all waters within a 200-yard radius of 29°20′23″ N, 094°46′37″ W.

Spectator Zone: All vessels that will be viewing the event will be required to stay within a designated area. The sponsor is responsible for marking the spectator zone with four buoys on the outer corners and ensuring that all vessels within the area are anchored and remain in the area during parade transit. The following coordinates are the approximate location of the Spectator Zone: 29°19′17″ N, 094°46′36″ W, thence to 29°19′37″ N, 094°46′53″ W, and both points connecting to the eastern shore.

Parade Transit Zone: This area is exclusive to vessels participating in the parade. It will include all waters within the following areas: 29°19′07.02″ N, 094°47′10.98″ W, thence to 29°18′55.43″ N, 094°47′04.23″ W, thence to 29°20′29.45″ N, 094°46′14.18″ W, thence to 29°20′32.68″ N, 094°46′29.94″ W, and along the shore line back to the beginning point.

A person or vessel not registered with the event sponsor as a participant or assigned as official patrols would be considered a spectator. A spectator vessel must not loiter within the navigable channel while within the regulated area. Official patrol vessels would direct spectators to the designated spectator zone. Official Patrols are any vessel assigned or approved by the Commander, Coast Guard Sector Houston-Galveston with a commissioned, warrant, or petty officer onboard and displaying a Coast Guard ensign. Official Patrols enforcing this regulated area can be contacted on VHF-FM channel 12. All non-participants will be prohibited from entering the established pre-staging and parade transit zones without obtaining permission from the on-water Safety Officer or designated representative. To seek permission to enter, contact the COTP or the COTP's representative by VHF Radio Channel 12. Those in the regulated area must comply with all lawful orders or directions given to them by the COTP or the designated representative.

The term “designated representative” means Coast Guard Patrol Commanders, including Coast Guard coxswains, petty officers, and other officers operating Coast Guard vessels, and Federal, state, and local officers designated by or assisting the Captain of the Port Houston-Galveston in the enforcement of the regulated areas.

IV. Regulatory Analyses

We developed this proposed rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action” under section 3(f) of Executive Order 12866. Accordingly, OMB has not reviewed it.

This regulatory action determination is based on the size, location, and duration of this special local regulation. The zone will be for only one day each year. Vessel traffic will be able to safely transit around the regulated areas which would impact a small, designated area of the Galveston Channel for less than five hours. The Coast Guard will issue a Broadcast Notice to Mariners via VHF-FM marine channel 16 about the zone, and the rule will allow vessels to seek permission to enter the regulated areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the regulated area may be small entities, for the reasons stated in section IV.A. above, this rule will not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a marine event and special local regulation lasting only five hours that will prohibit entry within 200 yards of the vessel staging area, parade transit zone, and designate a vessel spectator zone. Normally such actions are categorically excluded from further review under paragraph L61 of Appendix A, Table 1 of DHS Instruction Manual 023-01-001-01, Rev. 1. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at https://www.regulations.gov. To do so, go to https://www.regulations.gov, type USCG-2025-0586 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Marine safety, Navigation (water), Reporting and recordkeeping requirements, Waterways.

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. In § 100.801, amend table 3 by adding a new entry at the end of the table to read as follows:

§ 100.801 Annual Marine Events in the Eighth Coast Guard District.

* * * * *

Table 3 of § 100.801—Sector Houston-Galveston Annual and Recurring Marine Events
Date | Event/sponsor | Houston-Galveston location | Regulated area
* * * * * * *
10. Third Saturday in September | Texian Navy Day Celebration/The Texas Navy Association | Galveston Channel, TX | Pre-Staging Zone: This area is the pre-staging area for participating vessels to line up. It will include all waters within a 200-yard radius of 29°20′23″ N, 094°46′37″ W.
|  |  | Spectator Zone: All vessels that will be viewing the event will be required to stay within a designated area. The sponsor is responsible for marking the spectator zone with four buoys on the outer corners and ensuring that all vessels within the area are anchored and remain in the area during parade transit. The following coordinates are the approximate location of the Spectator Zone: 29°19′17″ N, 094°46′36″ W, thence to 29°19′37″ N, 094°46′53″ W, and both points connecting to the eastern shore.
|  |  | Parade Transit Zone: This area is exclusive to vessels participating in the parade. It will include all waters within the following areas: 29°19′07.02″ N, 094°47′10.98″ W, thence to 29°18′55.43″ N, 094°47′04.23″ W, thence to 29°20′29.45″ N, 094°46′14.18″ W, thence to 29°20′32.68″ N, 094°46′29.94″ W, and along the shore line back to the beginning point.

* * * * *

Dated: July 29, 2025.
Nicole D. Rodriguez,
Captain, U.S. Coast Guard, Captain of the Port Houston-Galveston.

[FR Doc. 2025-15142 Filed 8-7-25; 8:45 am]

BILLING CODE 9110-04-P